DEPARTMENT OF DEFENSE

GENERAL SERVICES ADMINISTRATION

NATIONAL AERONAUTICS AND SPACE ADMINISTRATION

48 CFR Chapter 1

[Docket FAR 2012-0081, Sequence 3]

Federal Acquisition Regulation; Federal Acquisition Circular 2005-58; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rule appearing in Federal Acquisition Circular (FAC) 2005-58, which amends the Federal Acquisition Regulation (FAR). An asterisk (*) next to a rule indicates that a regulatory flexibility analysis has been prepared. Interested parties may obtain further information regarding this rule by referring to FAC 2005-58, which precedes this document. These documents are also available via the Internet at http://www.regulations.gov.

DATES: April 18, 2012.

FOR FURTHER INFORMATION CONTACT: For clarification of content, contact the analyst whose name appears in the table below. Please cite FAC 2005-58 and the FAR case number. For information pertaining to status or publication schedules, contact the Regulatory Secretariat at 202-501-4755.

List of Rules in FAC 2005-58
Item | Subject | FAR case | Analyst
I * | Biobased Procurements | 2010-004 | Clark.
II | Representation Regarding Export of Sensitive Technology to Iran | 2010-018 | Davis.
III | Justification and Approval of Sole-Source 8(a) Contracts | 2009-038 | Morgan.
IV | Technical Amendments

SUPPLEMENTARY INFORMATION: Summaries for each FAR rule follow. For the actual revisions and/or amendments made by these FAR cases, refer to the specific item numbers and subject set forth in the documents following these item summaries. FAC 2005-58 amends the FAR as specified below:

Item I—Biobased Procurements (FAR Case 2010-004)

This final rule amends the FAR to implement changes that require contractors to report the biobased products purchased under service and construction contracts. The Farm Security and Rural Investment Act (7 U.S.C. 8102) requires agencies to report this information to the Office of Federal Procurement Policy. This reporting will enable agencies to monitor compliance with the Federal preference for purchasing biobased products. Contractors may need to create an inventory management system to track the biobased products purchased for each contract. However, this rule may enhance small business biobased product suppliers' participation in this market.

Item II—Representation Regarding Export of Sensitive Technology to Iran (FAR Case 2010-018)

This final rule adopts, with minor changes, an interim rule which added a representation to implement section 106 of the Comprehensive Iran Sanctions, Accountability, and Divestment Act of 2010. Section 106 imposes a procurement prohibition relating to contracts with persons that export certain sensitive technology to Iran. This rule has no significant impact on small business concerns.

Item III—Justification and Approval of Sole-Source 8(a) Contracts (FAR Case 2009-038)

This rule adopts as final, without change, an interim rule published in the Federal Register at 76 FR 14559 on March 16, 2011, which implemented section 811 of the National Defense Authorization Act for Fiscal Year 2010 (Pub. L. 111-84). Section 811 prohibits the award of a sole-source contract in an amount over $20 million under the 8(a) program authority (15 U.S.C. 637(a)) without first obtaining a written Justification and Approval (J&A) approved by an appropriate official, and making public the J&A and related information. This internal Government requirement for the development and approval of a sole-source J&A for 8(a) sole-source awards over $20 million neither prohibits such awards nor increases the qualifications required of 8(a) firms.

Item IV—Technical Amendments

Editorial changes are made at FAR 1.201-1, 52.212-5, and 52.219-28.

Dated: April 11, 2012.
Laura Auletta,
Director, Office of Governmentwide Acquisition Policy, Office of Acquisition Policy, Office of Governmentwide Policy.

[FR Doc. 2012-9215 Filed 4-17-12; 8:45 am]

BILLING CODE 6820-EP-P